DEPARTMENT OF TRANSPORTATION

Federal Aviation Administration

14 CFR Part 39

[Docket No. 2002-NM-268-AD]

RIN 2120-AA64

Airworthiness Directives; Raytheon Model BAe.125 Series 800A, 800A (C-29A), 800A (U-125), and 800B Airplanes; Model BH.125 Series 400A Airplanes; Model DH.125 Series Airplanes; Model Hawker 800, 800 (U-125A), and 800XP Airplanes; and Model HS.125 Series F3B, F3B/RA, F400B, F403B, 1B, 1B-522, 1B/R-522, 1B/S-522, 3B, 3B/R, 3B/RA, 3B/RB, 3B/RC, 400B, 400B/1, 401B, 403A(C), and 403B Airplanes

AGENCY: Federal Aviation Administration, DOT.

ACTION: Notice of proposed rulemaking (NPRM).

SUMMARY: This document proposes the adoption of a new airworthiness directive (AD) that is applicable to certain Raytheon airplanes. This proposal would require inspection of the main landing gear (MLG) wheels to determine the part numbers of the tie-bolt nuts, and replacement of nuts that have the incorrect part number with nuts that have the correct part number. This action is necessary to prevent separation of an MLG wheel due to loose or missing tie-bolts or tie-bolt nuts, with consequent damage to airplane structure or systems, decompression, loss of full braking ability, or injury to personnel on the ground. This action is intended to address the identified unsafe condition.

DATES: Comments must be received by February 18, 2003.

ADDRESSES: Submit comments in triplicate to the Federal Aviation Administration (FAA), Transport Airplane Directorate, ANM-114, Attention: Rules Docket No. 2002-NM-268-AD, 1601 Lind Avenue, SW., Renton, Washington 98055-4056. Comments may be inspected at this location between 9 a.m. and 3 p.m., Monday through Friday, except Federal holidays. Comments may be submitted via fax to (425) 7227-1232. Comments may also be sent via the Internet using the following address: 9-anm-nprmcomment@faa.gov. Comments sent via fax or the Internet must contain “Docket No. 2002-NM-268-AD” in the subject line and need not be submitted in triplicate. Comments sent via the Internet as attached electronic files must be formatted in Microsoft Word 97 for Windows or ASCII text.

The service information referenced in this proposed rule may be obtained from Raytheon Aircraft Company, Department 62, P.O. Box 85, Wichita, Kansas 67201-0085. This information may be examined at the FAA, Transport Airplane Directorate, 1601 Lind Avenue, SW., Renton, Washington; or at the FAA, Wichita Aircraft Certification Office, 1801 Airport Road, Room 100, Mid-Continent Airport, Wichita, Kansas.

FOR FURTHER INFORMATION CONTACT: David Ostrodka, Aerospace Engineer, Airframe Branch, ACE-118W, FAA, Wichita Aircraft Certification Office, 1801 Airport Road, Room 100, Wichita, Kansas 67209; telephone (316) 946-4129; fax (316) 946-4407.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-268-AD.” The postcard will be date stamped and returned to the commenter.

Availability of NPRMs

Any person may obtain a copy of this NPRM by submitting a request to the FAA, Transport Airplane Directorate, ANM-114, Attention: Rules Docket No. 2002-NM-268-AD, 1601 Lind Avenue, SW., Renton, Washington 98055-4056.

Discussion

The FAA has received a report indicating that two tie-bolt nuts were missing from a main landing gear (MLG) wheel, and that the remaining nuts were loose on a Raytheon Model Hawker 800XP airplane. Investigation revealed that the airplane manufacturer supplied to operators tie-bolt nuts with an incorrect part number, which were then installed on the MLG wheel tie-bolts. Tie-bolt nuts that have the incorrect part number have a lesser locking capability than the correct tie-bolt nuts. Installing incorrect tie-bolt nuts could lead to the nuts loosening due to the nuts not locking properly, which could result in the failure of the tie-bolts on the MLG wheel. This condition, if not corrected, could result in separation of an MLG wheel due to loose or missing tie-bolts or tie-bolt nuts, with consequent damage to airplane structure or systems, decompression, loss of full braking ability, or injury to personnel on the ground.

The tie-bolt nuts installed on the MLG wheels of the Raytheon Model BAe.125 series 800A, 800A (C-29A), 800A (U-125), and 800B airplanes; Model BH.125 series 400A airplanes; Model DH.125 series airplanes; Model Hawker 800, 800 (U-125A), and 800XP airplanes; Model HS.125 series F3B, F3B/RA, F400B, F403B, 1B, 1B-522, 1B/R-522, 1B/S-522, 3B, 3B/R, 3B/RA, 3B/RB, 3B/RC, 400B, 400B/1, 401B, 403A(C), and 403B airplanes may be identical to those installed on the affected Raytheon Model Hawker 800XP airplanes. Therefore, all of these airplane models may be subject to the same unsafe condition.

Explanation of Relevant Service Information

The FAA has reviewed and approved Raytheon Service Bulletin SB 32-3522, dated September 2002, including Service Bulletin/Kit Drawing Report Fax, which describes procedures for inspecting the MLG wheels to determine the part numbers of the tie-bolt nuts, and replacing the tie-bolt nuts with new nuts if necessary. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed Rule and Referenced Service Bulletin

Operators should note that, although the Accomplishment Instructions of the referenced service bulletin describe procedures for the completion and submission of a Service Bulletin/Kit Drawing Report Fax for reporting the relevant airplane and modification details, this proposed AD does not include such a reporting requirement.

Cost Impact

There are approximately 166 airplanes of the affected design in the worldwide fleet. The FAA estimates that 84 airplanes of U.S. registry would be affected by this proposed AD, that it would take approximately 1 work hour per airplane to accomplish the proposed inspection, and that the average labor rate is $60 per work hour. Based on these figures, the cost impact of the proposed AD on U.S. operators is estimated to be $5,040, or $60 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Raytheon Aircraft Company: Docket 2002-NM-268-AD.

Applicability: The following airplanes, certificated in any category:

Table.—Airplane Models, Serial Numbers, and Equipment
Model | Serial numbers | Equipped with—
BAe.125 series 800A | All | [Reserved].
BAe.125 series 800A (C-29A) | All | [Reserved].
BAe.125 series 800A (U-125) | All | [Reserved].
BAe.125 series 800B | All | [Reserved].
BH.125 series 400A | All | [Reserved].
DH.125 series airplanes | All | [Reserved].
Hawker 800 | All | [Reserved].
Hawker 800 (U-125A) | Up to and including serial numbers 258493 | [Reserved].
Hawker 800XP | Up to and including serial numbers 258581 | Dunlop wheels part numbers AH51909, AH52075, AH52286, AH52206, AHA1287, AHA1606, or AHA1814.
HS.125 series F3B | All | [Reserved].
HS.125 series F3B/RA | All | [Reserved].
HS.125 series F400B | All | [Reserved].
HS.125 series F403B | All | [Reserved].
HS.125 series 1B | All | [Reserved].
HS.125 series 1B-522 | All | [Reserved].
HS.125 series 1B/R-522 | All | [Reserved].
HS.125 series 1B/S-522 | All | [Reserved].
HS.125 series 3B | All | [Reserved].
HS.125 series 3B/R | All | [Reserved].
HS.125 series 3B/RA | All | [Reserved].
HS.125 series 3B/RB | All | [Reserved].
HS.125 series 3B/RC | All | [Reserved].
HS.125 series 400B | All | [Reserved].
HS.125 series 400B/1 | All | [Reserved].
HS.125 series 401B | All | [Reserved].
HS.125 series 403A(C) | All | [Reserved].
HS.125 series 403B | All | [Reserved].

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent separation of a main landing gear (MLG) wheel due to loose or missing tie-bolts or tie-bolt nuts, with consequent damage to airplane structure or systems, decompression, loss of full braking ability, or injury to personnel on the ground, accomplish the following:

Inspection

(a) Within 10 landings or 12 days after the effective date of this AD, whichever comes first, inspect the MLG wheels to determine the part numbers (P/Ns) of the tie-bolt nuts; per Raytheon Service Bulletin SB 32-3522, dated September 2002, excluding Service Bulletin/Kit Drawing Report Fax.

Replacement

(b) If any tie-bolt nut having P/N NAS1804 is found installed during the inspection required by paragraph (a) of this AD, before further flight, replace the tie-bolt nut with a new nut having P/N FN22A524, (or with a new tie-bolt nut having a Dunlop P/N H5227C-5CW, SN407C-054, or LH13318-5, which are P/Ns authorized by Raytheon); per Raytheon Service Bulletin SB 32-3522, dated September 2002, excluding Service Bulletin/Kit Drawing Report Fax.

Parts Installation

(c) As of the effective date of this AD, no person shall install any MLG wheel having a tie-bolt nut with P/N NAS1804, on any airplane.

Alternative Methods of Compliance

(d) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 2: Information concerning the existence of approved alternative methods of compliance with this AD, if any, may be obtained from the Wichita ACO.

Special Flight Permits

(e) Special flight permits may be issued in accordance with §§ 21.197 and 21.199 of the Federal Aviation Regulations (14 CFR 21.197 and 21.199) to operate the airplane to a location where the requirements of this AD can be accomplished.

Issued in Renton, Washington, on December 27, 2002.
Vi L. Lipski,
Manager, Transport Airplane Directorate, Aircraft Certification Service.

[FR Doc. 03-49 Filed 1-2-03; 8:45 am]

BILLING CODE 4910-13-P